DEPARTMENT OF TRANSPORTATION

Federal Aviation Administration

14 CFR Part 39

[Docket No. FAA-2006-24733; Project Identifier MCAI-2021-00139-R; Amendment 39-21642; AD 2021-14-15]

RIN 2120-AA64

Airworthiness Directives; Airbus Helicopters (Type Certificate Previously Held by Eurocopter France) and Eurocopter France Helicopters

AGENCY: Federal Aviation Administration (FAA), DOT.

ACTION: Final rule.

SUMMARY: The FAA is superseding Airworthiness Directive (AD) 2002-08-16 for certain Eurocopter France SA341G, SA342J, and SA-360C helicopters. AD 2002-08-16 required removing certain main rotor head torsion tie bars (tie bars) from service and revising the limitations section of the existing maintenance manual for your helicopter by adding life limits for certain other tie bars. This AD was prompted by the determination that another part-numbered tie bar is affected by the same unsafe condition. This AD continues to require removing certain tie bars from service and establishing a life limit for certain other tie bars. The FAA is issuing this AD to address the unsafe condition on these products.

DATES: This AD is effective August 10, 2021.

ADDRESSES: For Eurocopter service information identified in this final rule, contact Airbus Helicopters, 2701 North Forum Drive, Grand Prairie, TX 75052; telephone (972) 641-0000 or (800) 232-0323; fax (972) 641-3775; or at https://www.airbus.com/helicopters/services/technical-support.html. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2006-24733; or in person at Docket Operations between 9 a.m. and 5 p.m., Monday through Friday, except Federal holidays. The AD docket contains this final rule, the Direction Generale De L'Aviation Civile (DGAC) ADs, any comments received, and other information. The address for Docket Operations is U.S. Department of Transportation, Docket Operations, M-30, West Building Ground Floor, Room W12-140, 1200 New Jersey Avenue SE, Washington, DC 20590.

FOR FURTHER INFORMATION CONTACT: Hal Jensen, Aerospace Engineer, Operational Safety Branch, Compliance & Airworthiness Division, FAA, 950 L'Enfant Plaza N SW, Washington, DC 20024; telephone (202) 267-9167; email hal.jensen@faa.gov.

SUPPLEMENTARY INFORMATION:

Background

The FAA issued a supplemental notice of proposed rulemaking (SNPRM) to amend 14 CFR part 39 to supersede AD 2002-08-16 (67 FR 19640, April 23, 2002) (AD 2002-08-16). AD 2002-08-16 applied to Eurocopter France Model SA341G, SA342J, and SA-360C helicopters with a tie bar part number (P/N) 341A31-4904-00, -01, -02, -03; 341A31-4933-00, -01; or 360A31-1097-02, -03, installed. The SNPRM published in the Federal Register on May 20, 2021 (86 FR 27323). The FAA preceded the SNPRM with a notice of proposed rulemaking (NPRM) that published in the Federal Register on May 10, 2006 (71 FR 27215). The SNPRM proposed to continue to require removing tie bar P/Ns 341A31-4904-00, -01, -02, and -03; and 360A31-1097-02 and -03 from service. The SNPRM also proposed to prohibit installing those part-numbered tie bars on any helicopter. The SNPRM proposed to initially require removing tie bar P/Ns 341A31-4933-00 and -01; and 704A33-633-270 from service if they have accumulated or exceeded the specified life limit, and thereafter removing those part-numbered tie bars from service before accumulating the specified life limit.

The SNPRM was prompted by a significant amount of time that had elapsed since issuance of the NPRM that required the FAA to reopen the comment period to allow the public a chance to comment on the proposed actions. Additional review also revealed necessary changes to address the unsafe condition. The SNPRM proposed to clarify that the compliance times of requirements continued from AD 2002-08-16 are effective after the effective date of AD 2002-08-16, clarify instances of life limits specified in calendar time that they are since initial installation of the tie bar on any helicopter, clarify one instance of a life limit that it is total hours time-in-service (TIS) or calendar time—whichever occurs first, and add parts installation prohibitions. The SNPRM also updated the AD format. As a result, paragraph identifiers changed, editorial changes were made to meet current publishing requirements, and the proposed requirements were revised by removing unnecessary information.

The NPRM was prompted by DGAC AD 2001-587-041(A) R2, dated January 8, 2003 (DGAC AD 2001-587-041(A) R2), issued by the DGAC, which was the Technical Agent for France, to correct an unsafe condition for Model SA 341/342 helicopters. The DGAC advised of another affected tie-bar P/N 704A33-633-270 and additional flight restrictions for the newly-affected tie bar. This condition, if not addressed, could result in failure of a tie bar and subsequent loss of control of the helicopter. Accordingly, DGAC AD 2001-587-041(A) R2, along with DGAC AD 2001-588-047(A) R1, dated December 26, 2001 (DGAC AD 2001-588-047(A) R1), for Model SA 360 helicopters, require removing certain part-numbered tie bars from service and a life limit for certain other part-numbered tie bars.

Discussion of Final Airworthiness Directive

Comments

The FAA received no comments on the SNPRM or on the determination of the costs.

Conclusion

These helicopters have been approved by the European Union Aviation Safety Agency (EASA) and are approved for operation in the United States. Pursuant to the FAA's bilateral agreement with the European Union, the FAA has been notified about the unsafe condition described in the DGAC ADs. The FAA reviewed the relevant data and determined that air safety requires adopting this AD as proposed. Accordingly, the FAA is issuing this AD to address the unsafe condition on these helicopters.

Related Service Information

The FAA reviewed Eurocopter Alert Service Bulletin No. 01.29, Revision 0, dated December 4, 2002, and Eurocopter Alert Telex No. 01.39, Revision 1, dated December 11, 2001. This service information specifies removing certain part-numbered tie bars at specified life limits.

Differences Between This AD and the DGAC ADs

For an affected tie bar that has accumulated 7 or more years since initial installation on any helicopter, DGAC AD 2001-587-041(A) R2 requires removing the tie bar before next flight, whereas this AD allows removal within 5 hours TIS instead.

For an affected tie bar that has accumulated 15 or more years since initial installation on any helicopter, DGAC AD 2001-588-047(A) R1 requires removing the tie bar before next flight, whereas this AD does not. For an affected tie bar that has accumulated 7 or more years since initial installation on any helicopter, DGAC AD 2001-588-047(A) R1 requires removing the tie bar before next flight, whereas this AD allows removal within 5 hours TIS instead. DGAC AD 2001-588-047(A) R1 allows a ferry flight not to exceed 5 hours to return the helicopter to a maintenance base, where as special flight permits are prohibited by this AD.

Costs of Compliance

The FAA estimates that this AD affects 29 helicopters of U.S. Registry. Labor rates are estimated at $85 per work-hour. Based on these numbers, the FAA estimates the following costs to comply with this AD.

Replacing a tie bar takes about 1.5 work-hours and parts cost about $9,579 for an estimated cost of $9,707 per tie bar.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2002-08-16, Amendment 39-12725 (67 FR 19640, April 23, 2002); and

b. Adding the following new airworthiness directive:

2021-14-15 Airbus Helicopters (Type Certificate Previously Held by Eurocopter France) and Eurocopter France: Amendment 39-21642; Docket No. FAA-2006-24733; Project Identifier MCAI-2021-00139-R.

(a) Effective Date

This airworthiness directive (AD) is effective August 10, 2021.

(b) Affected ADs

This AD replaces AD 2002-08-16, Amendment 39-12725 (67 FR 19640, April 23, 2002) (AD 2002-08-16).

(c) Applicability

This AD applies to Airbus Helicopters (type certificate previously held by Eurocopter France) Model SA341G and SA342J and Eurocopter France Model SA-360C helicopters, certificated in any category, with a main rotor head torsion tie bar (tie bar), part number (P/N) 341A31-4904-00, -01, -02, -03; 341A31-4933-00, -01; 360A31-1097-02, -03; or 704A33-633-270, installed.

(d) Subject

Joint Aircraft Service Component (JASC) Code: 6220, Main Rotor Head.

(e) Unsafe Condition

This AD was prompted by an accident caused by the failure of a tie bar. The FAA is issuing this AD to prevent failure of a tie bar, which if not addressed, could result in loss of a main rotor blade and subsequent loss of control of the helicopter.

(f) Compliance

Comply with this AD within the compliance times specified, unless already done.

(g) Required Actions

(1) For tie bar P/N 341A31-4904-00, -01, -02, and -03; and 360A31-1097-02 and -03, before further flight after May 8, 2002 (the effective date of AD 2002-08-16), remove the tie bar from service.

(2) For each tie bar P/N 341A31-4933-00 and -01:

(i) Before further flight after May 8, 2002 (the effective date of AD 2002-08-16), determine the date of initial installation on any helicopter, or if the date of initial installation cannot be determined, use the date of manufacture.

(A) For a tie bar that has accumulated 7 or more years since initial installation on any helicopter, within 5 hours time-in-service (TIS) after May 8, 2002 (the effective date of AD 2002-08-16), remove the tie bar from service.

(B) For a tie bar manufactured before 1995 that has accumulated less than 7 years since initial installation on any helicopter, before accumulating 7 years since initial installation on any helicopter, before accumulating 300 total hours TIS, or within 1 year after May 8, 2002 (the effective date of AD 2002-08-16), whichever occurs first, remove the tie bar from service.

(C) For a tie bar manufactured in 1995 or later that has accumulated less than 7 years since initial installation on any helicopter, before accumulating 7 years since initial installation on any helicopter, before accumulating 600 total hours TIS, or within 2 years after May 8, 2002 (the effective date of AD 2002-08-16), whichever occurs first, remove the tie bar from service.

(ii) Thereafter following paragraph (g)(2)(i) of this AD, remove any tie bar P/N 341A31-4933-00 and -01 from service as follows:

(A) For a tie bar manufactured before 1995, remove the tie bar from service before accumulating 300 total hours TIS or 1 year since initial installation on any helicopter, whichever occurs first, and

(B) For a tie bar manufactured in 1995 or later, remove the tie bar from service before accumulating 600 total hours TIS or 2 years since initial installation on any helicopter, whichever occurs first.

(3) For tie bar P/N 704A33-633-270:

(i) Before further flight after the effective date of this AD, determine the date of initial installation on any helicopter, or if the date of initial installation cannot be determined, use the date of manufacture.

(ii) If the tie bar has accumulated 600 or more total hours TIS or 2 or more years since initial installation on any helicopter, whichever occurs first, before further flight, remove the tie bar from service.

(iii) If the tie bar has accumulated less than 600 total hours TIS or 2 years since initial installation on any helicopter, whichever occurs first, remove the tie bar from service before accumulating 600 total hours TIS or 2 years since initial installation on any helicopter, whichever occurs first.

(iv) Thereafter following paragraph (g)(3)(ii) or (iii) of this AD, remove any tie bar P/N 704A33-633-270 from service before accumulating 600 total hours TIS or 2 years since initial installation on any helicopter, whichever occurs first.

(4) As of the effective date of this AD, do not install tie bar P/N 341A31-4904-00, -01, -02, or -03; or 360A31-1097-02 or -03, on any helicopter.

(h) Special Flight Permits

Special flight permits are prohibited.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Hal Jensen, Aerospace Engineer, Operational Safety Branch, Compliance & Airworthiness Division, FAA, 950 L'Enfant Plaza N SW, Washington, DC 20024; telephone (202) 267-9167; email hal.jensen@faa.gov.

(2) The subject of this AD is addressed in Generale De L'Aviation Civile (France) AD 2001-588-047(A) R1, dated December 26, 2001, and AD 2001-587-041(A) R2, dated January 8, 2003. You may view those ADs at https://www.regulations.gov in Docket No. FAA-2006-24733.

Issued on June 28, 2021.
Lance T. Gant,
Director, Compliance & Airworthiness Division, Aircraft Certification Service.

[FR Doc. 2021-14258 Filed 7-2-21; 8:45 am]

BILLING CODE 4910-13-P